DEPARTMENT OF THE TREASURY

Internal Revenue Service

26 CFR Part 1

[TD 9597]

RIN-1545-BF34

Deductions for Entertainment Use of Business Aircraft; Correction

AGENCY: Internal Revenue Service (IRS), Treasury.

ACTION: Correction to final regulations.

SUMMARY: This document corrects the final regulation (TD 9597) that was published in the Federal Register on Wednesday, August 1, 2012, (77 FR 45480), relating to the use of business aircraft for entertainment.

DATES: Effective Date: This correction is effective on August 21, 2012 and is applicable on August 1, 2012.

FOR FURTHER INFORMATION CONTACT: Michael Nixon (section 274), (202) 622-4930; or Lynne A. Camillo (section 61), (202) 622-6040 (not toll-free numbers).

SUPPLEMENTARY INFORMATION:

Background

The final regulation (TD 9597) that is the subject of this correction is under section 274 of the Internal Revenue Code.

Need for Correction

As published, TD 9597 contains an error that may prove to be misleading and is in need of clarification.

Correction of Publication

Accordingly, the publication of the final regulation (TD 9597) that was the subject of FR Doc. 2012-18693, is corrected as follows:

On page 45480, column 1, under the caption DATES: line five, the language “1.274-9(e), and 1.274-10(h)” is corrected to read “1.274-9(e), and 1.274-10(g)”.

LaNita Van Dyke,
Chief, Legal Processing Division, Associate Chief Counsel, Procedure and Administration.

[FR Doc. 2012-20436 Filed 8-20-12; 8:45 am]

BILLING CODE 4830-01-P